FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 4, 2014.

A. Federal Reserve Bank of St. Louis (Yvonne Sparks, Community Development Officer) P.O. Box 442, St. Louis, Missouri 63166-2034:

1. Louis Bernard Eckelkamp, Jr., and William Wood Eckelkamp, both of Washington, Missouri, and Susan Ellen Eckelkamp, St. Albans, Missouri, individually; and Robert Marvin and Judith Ann Tobben, both of Washington, Missouri; to acquire voting shares of Cardinal Bancorp, Inc., and thereby indirectly acquire voting shares of Citizens National Bank of Greater St. Louis, both in Maplewood, Missouri.

B. Federal Reserve Bank of Kansas City (Dennis Denney, Assistant Vice President) 1 Memorial Drive, Kansas City, Missouri 64198-0001:

1. Michael E. Rockers, Nancy J. Rockers, Patrick N. Rockers, Connie M. Rockers, Douglas A. Rockers, Paige M. Rockers, Lori K. Rockers, all of Greeley, Kansas; Diane M. Fyock, Desoto, Kansas; Sennett M. Rockers, Philadelphia, Pennsylvania; Weston B. Rockers, Los Angeles, California; Tyler C. Rockers, Lawrence, Kansas; Troy N. Rockers, Garnett, Kansas; and Todd A. Foltz, Merriam, Kansas; all acting as a group in concert, to retain voting shares of Greeley Bancshares, Inc., and thereby indirectly retain voting shares of Bank of Greeley, both in Greeley, Kansas.

Board of Governors of the Federal Reserve System, October 15, 2014.
Michael J. Lewandowski,
Associate Secretary of the Board.

[FR Doc. 2014-24901 Filed 10-17-14; 8:45 am]

BILLING CODE 6210-01-P